DEPARTMENT OF AGRICULTURE

Forest Service

DEPARTMENT OF THE INTERIOR

Fish and Wildlife Service

Southeast Alaska Federal Subsistence Regional Advisory Council Meeting

AGENCY: Forest Service, USDA; Fish and Wildlife Service, Interior.

ACTION: Notice of meeting (teleconference).

SUMMARY: This notice informs the public that the Southeast Alaska Federal Subsistence Regional Advisory Council will hold a public meeting by teleconference on November 21, 2006. The public is invited to participate and to provide oral testimony.

DATES: The teleconference will be held November 21, 2006, at 10 a.m., Alaska Standard Time. For how to participate, please see SUPPLEMENTARY INFORMATION below.

FOR FURTHER INFORMATION CONTACT: Chair, Federal Subsistence Board, c/o Office of Subsistence Management, U.S. Fish and Wildlife Service, 3601 C Street, Suite 1030, Anchorage, Alaska 99503; telephone (907) 786-3888. For questions related to subsistence management issues on National Forest Service lands, contact Steve Kessler, Subsistence Program Leader, 3601 C Street, Suite 1030, Anchorage, Alaska 99503; telephone (907) 786-3592.

SUPPLEMENTARY INFORMATION: The Southeast Alaska Subsistence Regional Advisory Council will meet by teleconference on Tuesday, November 21, 2006, to develop a petition to the Secretary of the Interior and Secretary of Agriculture concerning the requirement that subsistence hunters possess a State of Alaska-issued resident hunting or trapping license to hunt or trap under Federal subsistence regulations, and for discussing other matters affecting subsistence users in Southeast Alaska. This meeting is open to the public to provide testimony. To participate, call toll free, 1-800-369-3372. The Teleconference Leader is Dr. Robert Schroeder and the Passcode is “REGIONAL COUNCIL”.

Authority: Title VIII of the Alaska National Interest Lands Conservation Act (ANILCA), 16 U.S.C. 3101-3126.

Dated: October 25, 2006.
Peter J. Probasco,
Acting Chair, Federal Subsistence Board.
Dated: October 25, 2006.
Steve Kessler,
Subsistence Program Leader, USDA—Forest Service.

[FR Doc. 06-9147 Filed 11-8-06; 8:45 am]

BILLING CODE 3410-11-P; 4310-55-P